DEPARTMENT OF COMMERCE

National Oceanic and Atmospheric Administration

[I.D. 091702B]

New England Fishery Management Council; Public Meeting

AGENCY: National Marine Fisheries Service (NMFS), National Oceanic and Atmospheric Administration (NOAA), Commerce.

ACTION: Notice of cancellation of a public meeting.

SUMMARY: The New England Fishery Management Council (Council) has cancelled the public meeting of its Monkfish Oversight Committee that was scheduled for Tuesday, October 8, 2002 at 9:30 a.m. at the Holiday Inn By The Bay, 88 Spring Street, Portland, ME 04101.

FOR FURTHER INFORMATION CONTACT: Paul J. Howard, Executive Director, New England Fishery Management Council; (978) 465-0492.

SUPPLEMENTARY INFORMATION: The initial notice published on September 13, 2002 (67 FR 59492). The meeting will be rescheduled at a later date and announced in the Federal Register.

Dated: October 3, 2002.
Richard W. Surdi,
Acting Director, Office of Sustainable Fisheries, National Marine Fisheries Service.

[FR Doc. 02-25622 Filed 10-7-02; 8:45 am]

BILLING CODE 3510-22-S